DEPARTMENT OF HEALTH AND HUMAN SERVICES

National Institutes of Health

Submission for OMB Review; Comments Request Improving Media Coverage of Cancer: A Survey of Science and Health Reporters

SUMMARY: In compliance with the requirement of Section 3506(c)(2)(A) of the Paperwork Reduction Act of 1995, for opportunity for public comment on proposed data collection projects, the National Cancer Institute (NCI) of the National Institutes of Health (NIH) will publish periodic summaries of proposed projects to be submitted to the Office of Management and Budget (OMB) for review and approval.

Proposed Collection: Title: Improving Media Coverage of Cancer: A Survey of Science and Health Reporters. Type of Information Collection Request: New. Need and Use of Information Collection: The NCI is dedicated to improving the extent and quality of cancer coverage in all forms of new media. Towards this goal, the NCI would like to explore how health stories are currently being covered in print, television, and radio news coverage and would also like to understand the barriers that exist to better health and cancer coverage. Information from this research can be used to support the myriad of efforts and initiatives of the NCI as described in the Bypass Budget to “understand and apply the most effective communications approaches to maximize access to and use of cancer information by all who need it.”

The primary objective of the NCI Media survey of reporters and editors covering health and medical science news stories in the U.S. is to gain knowledge of their background, environment, perspectives, and training needs in an effort to develop initiatives that will improve news media reportage of health in general, and cancer in particular. Six hundred reporters and editorial personnel of daily and weekly newspapers, magazines, wire service agencies, and television and radio stations with a specific focus on health and medical science reporting will be surveyed to determine their socio-demographic characteristics, individual characteristics, occupational practices, and other organizational and environmental factors that influence how they report health and medical science stories. This information will allow NCI to assess reporters' training needs, the barriers they face, and the resources NCI can develop to assist them in reporting cancer-related stories. Frequency of Response: Once. Affected Public: Individuals and businesses. Type of Respondents: Reporters and editors. The annual reporting burden is as follows: Estimated Number of Respondents: 600; Estimated Number of Responses per Respondent: 1; Average Burden Hours Per Response: .334; and Estimated Total Annual Burden Hours Requested: 200. The total estimated cost to respondents is $3,784. There are no Capital Costs to report. There are no Operating or Maintenance Costs to report.

Respondents | Number of respondents | Number of responses per respondent | Average burden per response (in hours) | Total burden (in hours)
Reporters | 600 | 1 | .334 | 200
Total |  |  |  | 200

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Helen I. Meissner, Ph.D., Chief, Applied Cancer Screening Research Branch, Behavioral Research Program, Division of Cancer Control and Population Sciences, National Cancer Institute, Executive Plaza North, Suite 4102, 6130 Executive Blvd., MSC 7331, Bethesda, MD 20892-7331, or call non-toll-free number 301-435-2836 or E-mail your request, including your address to: meissneh@mail.nih.gov.

Comments Due Date: Comments regarding this information collection are best assured of having their full effect if received within 60-days of the date of this publication.

Dated: March 4, 2004.
Rachelle Ragland-Greene,
Project Clearance Liaison, National Cancer Institute, National Institutes of Health.

[FR Doc. 04-5542 Filed 3-10-04; 8:45 am]

BILLING CODE 4140-01-M